DEPARTMENT OF ENERGY

Federal Energy Regulatory Commission

[Projects Nos. 1940-029 and 1966-054]

Wisconsin Public Service Corporation; Notice of Availability of Environmental Assessment

In accordance with the National Environmental Policy Act of 1969 and the Federal Energy Regulatory Commission (Commission or FERC) regulations, 18 CFR part 380 (Order No. 486, 52 FR 47897), the Office of Energy Projects has reviewed the applications for new licenses for the 2.6-megawatt (MW) Tomahawk Hydroelectric Project (FERC Project No. 1940-029) and the 17.24-MW Grandfather Falls Hydroelectric Project (FERC Project No. 1966-054) and has prepared a single environmental assessment (EA) that includes both projects. Both projects are located on the Wisconsin River in Lincoln County, Wisconsin.

The EA contains the staff's analysis of the potential environmental impacts of the projects and concludes that licensing the projects, with appropriate environmental protective measures, would not constitute a major federal action that would significantly affect the quality of the human environment.

A copy of the EA is available for review at the Commission in the Public Reference Room or may be viewed on the Commission's website at www.ferc.gov using the eLibrary link. For each project, enter the docket number, excluding the last three digits, in the docket number field to access the document. For assistance, contact FERC Online Support at FERCOnlineSupport@ferc.gov; toll-free at 1-866-208-3676; or for TTY, (202) 502-8659.

You may also register online at www.ferc.gov/docs-filing/esubscription.asp to be notified via email of new filings and issuances related to this or other pending projects. For assistance, contact FERC Online Support.

Any comments should be filed within 30 days from the date of this notice. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE, Washington, DC 20426. The first page of any filing should include docket numbers P-1940-029 or P-1966-054, as appropriate.

For further information, contact Lee Emery at (202) 502-8379 or by email at lee.emery@ferc.gov.

Dated: January 24, 2018.
Kimberly D. Bose,
Secretary.

[FR Doc. 2018-01787 Filed 1-29-18; 8:45 am]

BILLING CODE 6717-01-P